DEPARTMENT OF COMMERCE

National Oceanic and Atmospheric Administration

RIN 0648-XD699

Western Pacific Fishery Management Council; Public Meetings

AGENCY: National Marine Fisheries Service (NMFS), National Oceanic and Atmospheric Administration (NOAA), Commerce.

ACTION: Notice of public meetings.

SUMMARY: The Western Pacific Fishery Management Council (Council) will hold public meetings in American Samoa and Hawaii regarding the Council's Fishery Ecosystem Plans and American Samoa fishery management issues.

DATES: American Samoa Advisory Body Fishery Ecosystem Plan Review Meeting: Wednesday January 28, 2015 from 4 p.m. to 8:30 p.m.; Public Meeting on Large Pelagic Vessel Prohibited Area Thursday January 29, 2015 from 4 p.m. to 6:30 p.m.; American Samoa Regional Ecosystem Advisory Committee Fishery Ecosystem Plan Review Meeting: Friday January 30, 2015 from 8:30 a.m. to 2:30 p.m.; Hawaii Council Advisory Body Fishery Ecosystem Plan Review Meeting: Wednesday February 4, 2015 from 9 a.m. to 3 p.m.; Hawaii Regional Ecosystem Advisory Committee Fishery Ecosystem Plan Review Meeting: Thursday February 5, 2015 from 9 a.m. to 12 p.m.

ADDRESSES: See SUPPLEMENTARY INFORMATION for specific locations of meetings.

FOR FURTHER INFORMATION CONTACT: Kitty M. Simonds, Executive Director; telephone: (808) 522-8220.

SUPPLEMENTARY INFORMATION: The locations of the meetings are as follows:

• American Samoa Council Advisory Body Fishery Ecosystem Plan Review Meeting: Sadies by the Sea Conference Room, Utulei;

• Public Meeting on Large Pelagic Vessel Prohibited Area: Sadies by the Sea Conference Room, Utulei;

• American Samoa Regional Ecosystem Advisory Committee Fishery Ecosystem Plan Review Meeting: Governor H. Rex Lee Auditorium, Utulei;

• Hawaii Council Advisory Body Fishery Ecosystem Plan Review Meeting: Council Office, 1164 Bishop St., Honolulu, HI;

• Hawaii Council Regional Ecosystem Advisory Committee Fishery Ecosystem Plan Review Meeting: Council Office, 1164 Bishop St., Honolulu, HI.

January 28, 2015 American Samoa Council Advisory Body FEP Meeting

Agenda:

1. Welcome and Introductions

2. Overview of the Council and its Fisheries

A. Authority and Responsibilities

B. Council Structure, Programs, and Fisheries

C. Five Year Program Plan

3. Review of Council's Fishery Ecosystem Plans

A. Background

B. Purpose

C. Intended Outcomes

D. Major Process Elements

i. Mandates

ii. FEP Objectives

iii. Decision-making Process

iv. Data

4. Other Relevant Topics

5. Discussion and Recommendations

January 29, 2015 Public Meeting on Large Pelagic Vessel Prohibited Area

Agenda:

1. Welcome and Introductions

2. Brief Overview of the Council

3. Temporary exemption to fish with the current large vessel prohibited area

A. Background and History

B. Management Option under Consideration

4. Other Relevant Topics

5. Public Comment

January 30, 2015 American Samoa REAC FEP Meeting

Agenda: See January 28 American Samoa Council Advisory Body FEP Meeting agenda.

February 4, 2015 Hawaii Council Advisory Body FEP Meeting

Agenda:

1. Welcome and Introductions

2. Overview of the Council and its Fisheries

A. Authority and Responsibilities

B. Council Structure, Programs, and Fisheries

C. Five Year Program Plan

3. Review of Council's Fishery Ecosystem Plans

A. Background

B. Purpose

C. Intended Outcomes

D. Major Process Elements

i. Mandates

ii. FEP Objectives

iii. Decision-making Process

iv. Data

4. Other Relevant Topics

5. Discussion and Recommendations

February 5, 2015 Hawaii REAC FEP Meeting

Agenda: See February 4 Hawaii Council Advisory Body FEP Meeting agenda.

Special Accommodations

These meetings are physically accessible to people with disabilities. Requests for sign language interpretation or other auxiliary aids should be directed to Kitty M. Simonds, (808) 522-8220 (voice) or (808) 522-8226 (fax), at least 5 days prior to the meeting date.

Authority: 16 U.S.C 1801 et seq.

Dated: January 6, 2015.
Tracey L. Thompson,
Acting Deputy Director, Office of Sustainable Fisheries, National Marine Fisheries Service.

[FR Doc. 2015-00149 Filed 1-8-15; 8:45 am]

BILLING CODE 3510-22-P